FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010776-125.

Title: Asia North America Eastbound Rate Agreement.

Parties: American President Lines, Ltd.; APL Co. Pte Ltd.; Hapag-Lloyd Container Line GmbH; Kawasaki Kisen Kaisha, Ltd.; Mitsui O.S.K. Lines, Ltd.; A. P. Moller-Maersk A/S; Nippon Yusen Kaisha Line; Orient Overseas Container Line Limited; P&O Nedlloyd B.V.; and P&O Nedlloyd Limited.

Synopsis: The modification extends the suspension of the conference through November 30, 2004.

Agreement No.: 011878.

Title: Lykes/MOL Slot Charter Agreement.

Parties: Lykes Lines Limited, LLC and Mitsui O.S.K Lines, Ltd.

Synopsis: The agreement authorizes Lykes to charter space to MOL between the U.S. Gulf Coast and Puerto Rico, on the one hand, and ports in the Dominican Republic, Mexico, Honduras, Costa Rica, Panama, Colombia, and Venezuela, on the other hand.

Agreement No.: 011879.

Title: CMA CGM/WHL/Norasia Cross Space Charter and Sailing Charter Agreement.

Parties: CMA CGM, S.A.; Norasia Container Lines Limited; and Wan Hai Lies Ltd.

Synopsis: The agreement authorizes the parties to share vessel space in the trade between ports in China and South Korea and ports on the Pacific Coast of the United States.

By Order of the Federal Maritime Commission.
Dated: April 16, 2004.
Bryant L. VanBrakle,
Secretary.

[FR Doc. 04-9026 Filed 4-20-04; 8:45 am]

BILLING CODE 6730-01-P